DEPARTMENT OF AGRICULTURE

Forest Service

Manti-La Sal National Forest; Utah; Monument Management Plan for the Bears Ears National Monument Shash Jáa Unit

AGENCY: Forest Service, USDA.

ACTION: Notice.

SUMMARY: The purpose of this notice is to ensure that all persons and entities interested in Forest Service activities are aware of the Bureau of Land Management's (BLM) January 16, 2018 Notice of Intent (NOI) to prepare an environmental impact statement (EIS) (83 FR 2181). The BLM is preparing Monument Management Plans (MMPs) for the Indian Creek Unit and the Shash Jáa Unit of the Bears Ears National Monument. The Shash Jáa Unit includes National Forest System lands, under management and decision-making authority of the Forest Service and managed under the land management plan for the Manti-La Sal National Forest (Forest Plan). The Forest Service and BLM will jointly prepare the MMP for the Shash Jáa Unit. The BLM will prepare a single EIS to satisfy the National Environmental Policy Act (NEPA) requirements for the planning process for both units. The BLM is the lead agency for the preparation of the EIS, and the Forest Service is participating as a cooperating agency. The Forest Service intends to use the BLM's EIS to make its decision for the part of the Shash Jáa Unit MMP it administers. That decision may include approving a Forest Plan amendment, if analysis leads the Forest Service to conclude that an amendment is necessary or appropriate. In the event that the Forest Service determines that it intends to amend the Forest Plan, this notice also identifies the Forest Service planning rule provisions likely to be directly related and, therefore, applicable to the Forest Plan amendment. The notice also identifies the applicable administrative review process for the Forest Plan amendment.

DATES: Consistent with the January 16, 2018, BLM Notice of Intent, comments on issues as part of the public scoping process for the EIS may be submitted in writing prior to March 19, 2018, or 15 days after the last BLM public scoping meeting, whichever is later. The date(s) and location(s) of any scoping meetings will be announced by the BLM at least 15 days in advance through local media, newspapers, and the BLM website at: https://www.blm.gov/utah.

ADDRESSES: You may submit comments on issues, MMP criteria, and identified Forest Service planning rule provisions likely to be directly related to a possible Forest Plan amendment related to this planning effort by any of the following methods:

• Website: Bears Ears National Monument: https://goo.gl/uLrEae.

• Mail: 365 North Main, P.O. Box 7, Monticello, UT 84535.

Documents pertinent to this planning effort may be examined at the BLM Canyon Country District or Monticello Field Office.

FOR FURTHER INFORMATION CONTACT: For further information and/or to add your name to the mailing list, contact:

• Lance Porter, District Manager, BLM—telephone (435) 259-2100; address 365 North Main, P.O. Box 7, Monticello, UT 84535; email blm_ut_monticello_monuments@blm.gov.

Individuals who use telecommunication devices for the deaf (TDD) may call the Federal Information Relay Service (FIRS) at 1-800-877-8339 between 8 a.m. and 8 p.m., Eastern Time, Monday through Friday.

SUPPLEMENTARY INFORMATION:

Purpose and Need for Forest Service Action

As described in the BLM's NOI, the purpose of the proposed action is to establish management plans for the Indian Creek Unit and the Shash Jáa Unit of the Bears Ears National Monument. The need for the proposed action is to comply with the Presidential Proclamation 9558, which designated the Bears Ears National Monument and required developing MMPs (82 FR 1139). The area to which the MMPs will apply is as modified by Presidential Proclamation 9681 (82 FR 58081).

As further described in the BLM's NOI, the BLM and Forest Service will jointly prepare the proposed MMP for the Shash Jáa Unit. The Forest Service is responsible for management of National Forest System lands within the Shash Jáa Unit. For the Forest Service, the proposed action may include amendment of the Manti-La Sal Forest Plan if analysis leads the Forest Service to conclude that the Forest Plan should be amended.

Lead and Cooperating Agencies for the Environmental Impact Statement

The BLM is the lead agency for the preparation of the EIS, and the Forest Service is participating as a cooperating agency for the EIS.

Responsible Official

The Forest Service responsible official is the Manti-La Sal Forest Supervisor.

Nature of the Forest Service Decision To Be Made

The Forest Service decision to be made is approval of that portion of the Shash Jáa Unit MMP applicable to National Forest System lands and approval of a Forest Plan amendment, if analysis leads the Forest Service to conclude that an amendment is necessary and appropriate.

This notice does not commit the Forest Service to amending the Forest Plan. This notice does not preclude the Forest Service from changing the Forest Plan through administrative change nor from including changes to the Forest Plan made necessary or appropriate by the MMP through the current effort of revising the Forest Plan. Furthermore, this notice does not preclude the Forest Service from including in the MMP project and site-specific activities applicable to National Forest System lands. Any Forest Service decision on project and site-specific activities must be supported by appropriate Forest Service NEPA analysis.

In the event that the Forest Service determines that it intends to amend the Forest Plan, we hereby give notice that substantive requirements of the 2012 Planning Rule (36 CFR 219) likely to be directly related and, therefore, applicable to the Forest Plan amendment are 36 CFR 219.8 (b) (1), (5), and (6), regarding social and economic sustainability; 36 CFR 219.10 (a)(1), (4), (5), (7), (8), and (10), regarding integrated resource management for multiple use; and 36 CFR 219.10 (b)(1)(ii), (iii), and (vi), regarding cultural and historic resources, areas of tribal importance, and management of designated areas.

Administrative Review

If the Forest Service determines that it intends to amend the Forest Plan with the MMP, we will use the BLM's administrative review procedures, as provided by the 2012 Planning Rule, at 36 CFR 219.59 (b). The review procedures would include a joint response from BLM and the Forest Service to those who file for administrative review.

If changes to the Forest Plan associated with the MMP would be made as part of the current process for the revision of the Forest Plan, those changes would be part of the proposed revised Forest Plan and subject to the normal administrative review process of the Forest Service planning rule for the approval of the revised Forest Plan, 36 CFR 219, subpart B. The NOI for the revision of the Forest Plan is expected in fall of 2018.

If any project or site-specific decision is to be made in the MMP, such decision would be subject to the Forest Service project-level administrative review process at 36 CFR 218.

Dated: March 14, 2018.
Chris French,
Associate Deputy Chief, National Forest System.

[FR Doc. 2018-07072 Filed 4-9-18; 8:45 am]

BILLING CODE 3411-15-P